DEPARTMENT OF TRANSPORTATION

Federal Aviation Administration

14 CFR Part 73

[Docket No. FAA-2017-0144; Airspace Docket No. 17-ASW-2]

RIN 2120-AA66

Establishment of Restricted Areas R-5602A and R-5602B; Fort Sill, OK

AGENCY: Federal Aviation Administration (FAA), DOT.

ACTION: Final rule.

SUMMARY: This action establishes two restricted areas, R-5602A and R-5602B, over a portion of the Fort Sill, OK, R-5601 restricted area complex in support of emerging kinetic and directed energy weapons training requirements for the United States (U.S.) Army Fires Center of Excellence at Fort Sill. This additional airspace allows for the segregation of hazardous activities from non-participating air traffic.

DATES: Effective date: 0901 UTC, September 13, 2018.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish the restricted area airspace at Fort Sill, OK, to enhance aviation safety and accommodate essential U.S. Army hazardous high trajectory surface-to-surface kinetic weapons employment and above-the-horizon directed energy laser operations conducting counter unmanned aircraft systems (UAS) activities.

History

The FAA published a notice of proposed rulemaking for Docket No. FAA-2017-0144 in the Federal Register (82 FR 30805; July 3, 2017), to establish two restricted areas overlying a portion of the Fort Sill, OK, R-5601 restricted area complex, and extending slightly eastward, to support an emerging high trajectory kinetic and directed energy laser weapons training mission. Interested parties were invited to participate in this rulemaking effort by submitting written comments on the proposal. One comment was received.

Discussion of Comment

While supportive of the overall concept, the commenter suggested combining the two proposed restricted areas with the R-5601 restricted areas they overlie into a single restricted area. The commenter felt this would allow all pilots, participants and non-participants, to better identify the restricted areas easier. The FAA agrees that having only one area would make it easier for both participating and non-participating pilots to identify the restricted area airspace overhead Fort Sill, OK, on charts; however, that would restrict navigable airspace from non-participants unnecessarily. It is the FAA's policy to sub-divide Special Use Airspace areas, when feasible, if activation of the entire area is not required by the user to prevent unnecessarily restricting navigable airspace. In this case, subdividing the restricted area airspace into two subareas as proposed, R-5602A and R-5602B, is appropriate due to the types of hazardous activities to be conducted and the airspace requirements for those activities.

The planned surface-to-air directed energy laser fires will require both the R-5602A and R-5602B areas to be activated to fully contain directed energy beams as they transit between 40,000 feet mean sea level (MSL) and 60,000 feet MSL. The altitudes are defined relative to MSL to highlight that the proposed areas would be used for other than aircraft operations. However, the planned surface-to-surface artillery fires will only require the R-5602A area, which overlies where the artillery firing points and impact areas are located within the existing Fort Sill R-5601 restricted area complex, to be activated. The proposed subdivided configuration allows R-5602B to remain available for non-participating air traffic access when directed energy laser activities are not being conducted.

As noted in the NPRM, restricted areas R-5602A and R-5602B will enable the U.S. Army to leverage the advanced technology weapons capabilities for training soldiers in emerging field artillery and air defense artillery missions.

The Rule

The FAA is amending 14 CFR part 73 by establishing restricted areas R-5602A and R-5602B overlying a portion of the R-5601 restricted area complex located at Fort Sill, OK, and extending approximately 8 nautical miles (NM) east of the restricted area complex. The new restricted areas support the U.S. Army fielding advanced technology high trajectory kinetic and directed energy laser weapons and training for emerging field artillery and air defense artillery missions. The restricted areas are described below.

R-5602A is established to contain high trajectory surface-to-surface kinetic weapons employment using existing firing points and impact areas, with occasional directed energy laser fires passing through a portion of R-5602A before entering the R-5602B restricted area. The lateral boundaries for R-5602A overlie the R-5601A, R-5601B, and a portion of R-5601F restricted areas, extending upward from 40,000 feet MSL to 60,000 feet MSL. The altitudes are defined relative to MSL to highlight that the restricted area is to be used for other than aircraft operations.

R-5602B is established solely to contain directed energy laser fires intended to destroy adversary UAS. The target UAS will operate in the lower R-5601 restricted areas since R-5602B is not approved for aviation activity. The boundaries for R-5602B extend a shelf of restricted area airspace approximately 8 NM eastward beyond the R-5601A and R-5601F eastern boundaries, extending upward from 40,000 feet MSL to 60,000 feet MSL. Again, the altitudes are defined relative to MSL to highlight that the restricted area is to be used for other than aircraft operations.

The time of designation for R-5602A and R-5602B is “By NOTAM 0830-1630, Monday-Friday; other times by NOTAM.” The expected usage for R-5602A is approximately 8 hours per day most weekdays, consistent with in-garrison training requirements. The expected usage for R-5602B is approximately 25 days per year.

During times when the restricted areas are not needed by the using agency, the airspace will be returned to the FAA controlling agency, Fort Worth Air Route Traffic Control Center (ARTCC), and will be available for access by other airspace users.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing two restricted areas, R-5602A and R-5602B, which partially overlay portions of the R-5601 restricted area complex at Fort Sill, OK, qualifies for FAA adoption in accordance with FAA Order 1050.1F, paragraphs 8-2 and 9-2, Adoption of Other Agencies' National Environmental Policy Act Documents, and Written Re-evaluations, and 7400.2L, paragraph 32-2-3. The purpose of creating and utilizing the restricted areas is to safely segregate private and commercial aircraft from above-the-horizon hazardous laser activities while supporting the U.S. Army emerging high trajectory kinetic and directed energy laser weapons training mission. The FAA, after conducting an independent review and evaluation of the United States Army's April 2018 Final Supplemental Environmental Assessment for the Permanent Creation and Utilization of Restricted Areas R-5602A and R-5602B at Fort Sill, Oklahoma, has determined that the Army's Final Supplemental EA and its supporting documentation adequately assesses and discloses the environmental impacts of the proposed action. Based on the evaluation for potential environmental impact in the above-mentioned Supplemental EA, the FAA, as the Cooperating Agency, concluded that adoption of the EA for the Permanent Creation and Utilization of Restricted Area R-5602A/B is authorized in accordance with 40 CFR 1506.3, Adoption. Accordingly, FAA adopts the Army's Supplemental EA and is issuing a Finding of No Significant Impact and Record of Decision (FONSI/ROD) for the project as a Cooperating Agency. The FONSI/ROD documents the FAA's determination that the project, as proposed, would not result in significant impacts to the human environment and that an Environmental Impact Statement (EIS) is therefore not necessary. A copy of the Supplemental EA and FONSI/ROD is available upon request by contacting Gregory L. Hines, Operations Support Group, Central Service Center, Federal Aviation Administration, 10101 Hillwood Parkway, Fort Worth, Texas 76177, telephone: (817) 222-5866.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 [Amended]

2. Section 73.56 is amended as follows:

* * * * *

R-5602A Fort Sill, OK [New]

Boundaries. Beginning at lat. 34°46′45″ N, long. 98°17′01″ W; to lat. 34°38′15″ N, long. 98°17′01″ W; to lat. 34°38′15″ N, long. 98°37′57″ W; to lat. 34°40′54″ N, long. 98°37′56″ W; to lat. 34°42′07″ N, long. 98°37′20″ W; to lat. 34°43′21″ N, long. 98°36′02″ W; to lat. 34°43′30″ N, long. 98°35′40″ W; to lat. 34°45′03″ N, long. 98°29′46″ W; to lat. 34°46′15″ N, long. 98°25′01″ W; to lat. 34°47′00″ N, long. 98°17′46″ W; to the point of beginning.

Designated altitudes. 40,000 feet MSL to 60,000 feet MSL.

Time of designation. By NOTAM 0830-1630, Monday-Friday; other times by NOTAM.

Controlling agency. FAA, Fort Worth ARTCC.

Using agency. U.S. Army, Commanding General, U.S. Army Fires Center of Excellence (USAFCOE) and Fort Sill, Fort Sill, OK.

R-5602B Fort Sill, OK [New]

Boundaries. Beginning at lat. 34°49′30″ N, long. 98°08′43″ W; to lat. 34°36′36″ N, long. 98°08′43″ W; to lat. 34°38′15″ N, long. 98°17′01″ W; to lat. 34°46′06″ N, long. 98°17′01″ W; to the point of beginning.

Designated altitudes. 40,000 feet MSL to 60,000 feet MSL.

Time of designation. By NOTAM 0830-1630, Monday-Friday; other times by NOTAM.

Controlling agency. FAA, Fort Worth ARTCC.

Using agency. U.S. Army, Commanding General, U.S. Army Fires Center of Excellence (USAFCOE) and Fort Sill, Fort Sill, OK.

Issued in Washington, DC, on July 2, 2018.
Rodger A. Dean Jr.,
Manager, Airspace Policy Group.

[FR Doc. 2018-14783 Filed 7-10-18; 8:45 am]

BILLING CODE 4910-13-P